DEPARTMENT OF THE INTERIOR

Bureau of Land Management

[OR-056-05-1610-DR-011H; HAG 05-155]

Notice of Availability of the Record of Decision for the Upper Deschutes Resource Management Plan (RMP) and Environmental Impact Statement (EIS)

AGENCY: Bureau of Land Management, Interior.

ACTION: Notice of Availability of Record of Decision.

SUMMARY: In accordance with the National Environmental Policy Act, the Federal Land Policy and Management Act, and Bureau of Land Management (BLM) policies, the BLM announces the availability of the Record of Decision (ROD) for the Upper Deschutes RMP located in Klamath, Deschutes, Crook, and Jefferson counties in Central Oregon. The Oregon/Washington State Director has approved the RMP/ROD, which becomes effective immediately.

ADDRESSES: Copies of the Upper Deschutes RMP/ROD are available upon request from the Prineville District Office, Bureau of Land Management, 3050 NE Third St., Prineville, Oregon 97754 or via the Internet at http://www.or.blm.gov/prineville/ or by calling (541) 416-6700.

FOR FURTHER INFORMATION CONTACT: Teal Purrington, Project Manager, BLM, Prineville District Office, 3050 NE., Third St., Prineville, Oregon 97754 or at (541) 416-6700.

SUPPLEMENTARY INFORMATION: The Upper Deschutes RMP/ROD was developed with broad public participation through a four-year collaborative planning process. This RMP/ROD addresses management of approximately 400,000 acres of public land in Central Oregon. The Upper Deschutes RMP/ROD is designed to achieve or maintain desired future conditions developed through the planning process. It includes a series of management actions to meet the desired resource conditions for upland and riparian vegetation, wildlife habitats, cultural and visual resources, livestock grazing, special forest products, minerals and mineral materials, military use, recreation, land classifications and rights-of-way, and travel management.

With one exception, the approved Upper Deschutes RMP is essentially the same as Alternative 7 in the Proposed Upper Deschutes RMP and Final EIS, published in January 2005. The BLM received 16 protests on the Proposed Upper Deschutes RMP and Final EIS. In response to protests, a decision was made to allow “geocaching” activities within Wilderness Study Areas under specific monitoring and mitigation measures described in the RMP.

Dated: August 3, 2005.
James G. Kenna,
Associate State Director, Oregon/Washington BLM.

[FR Doc. 05-20616 Filed 10-13-05; 8:45 am]

BILLING CODE 4310-33-P